DEPARTMENT OF TRANSPORTATION

Federal Aviation Administration

14 CFR Part 97

[Docket No. 30960; Amdt. No. 3592]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 11, 2014. The compliance date for each SIAP, associated Takeoff Minimums, and ODP is specified in the amendatory provisions.

The incorporation by reference of certain publications listed in the regulations is approved by the Director of the Federal Register as of June 11, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK. 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on May 9, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows;

* * * Effective Upon Publication

AIRAC date | State | City | Airport | FDC No. | FDC date | Subject
26-Jun-14 | IN | Terre Haute | Terre Haute Intl-Hulman Field | 4/0021 | 4/29/14 | VOR/DME RWY 5, Amdt 17D.
26-Jun-14 | IN | Terre Haute | Terre Haute Intl-Hulman Field | 4/0022 | 4/29/14 | RNAV (GPS) RWY 5, Orig-B.
26-Jun-14 | IN | Terre Haute | Terre Haute Intl-Hulman Field | 4/0023 | 4/29/14 | ILS OR LOC RWY 5, Amdt 22G.
26-Jun-14 | MT | Bozeman | Bozeman Yellowstone Intl | 4/0026 | 4/30/14 | ILS OR LOC RWY 12, Amdt 9.
26-Jun-14 | MT | Bozeman | Bozeman Yellowstone Intl | 4/0028 | 4/30/14 | VOR/DME RWY 12, Amdt 4A.
26-Jun-14 | IL | Sparta | Sparta Community-Hunter Field | 4/0047 | 4/29/14 | RNAV (GPS) RWY 18, Amdt 1.
26-Jun-14 | CA | Sacramento | Sacramento Mather | 4/0050 | 4/29/14 | VOR RWY 4R, Orig-E.
26-Jun-14 | CA | Sacramento | Sacramento Mather | 4/0051 | 4/29/14 | RNAV (GPS) RWY 4R, Amdt 1A.
26-Jun-14 | CA | Sacramento | Sacramento Mather | 4/0054 | 4/29/14 | VOR/DME RWY 22L, Orig-E.
26-Jun-14 | CA | Sacramento | Sacramento Mather | 4/0055 | 4/29/14 | RNAV (GPS) RWY 22L, Amdt 2.
26-Jun-14 | CA | Sacramento | Sacramento Mather | 4/0057 | 4/29/14 | ILS OR LOC/DME RWY 22L, Amdt 5A.
26-Jun-14 | NY | Watertown | Watertown Intl | 4/0239 | 4/30/14 | RNAV (GPS) RWY 10, Orig.
26-Jun-14 | NY | Watertown | Watertown Intl | 4/0242 | 4/30/14 | ILS OR LOC RWY 7, Amdt 7.
26-Jun-14 | NY | Watertown | Watertown Intl | 4/0244 | 4/30/14 | RNAV (GPS) RWY 7, Amdt 2A.
26-Jun-14 | NY | Watertown | Watertown Intl | 4/0247 | 4/30/14 | RNAV (GPS) RWY 28, Orig.
26-Jun-14 | NY | Watertown | Watertown Intl | 4/0258 | 4/30/14 | VOR RWY 7, Amdt 14.
26-Jun-14 | MS | Vicksburg | Vicksburg Muni | 4/2223 | 4/30/14 | RNAV (GPS) RWY 1, Amdt 1.
26-Jun-14 | UT | Bryce Canyon | Bryce Canyon | 4/2369 | 4/30/14 | RNAV (GPS) RWY 21, Amdt 1A.
26-Jun-14 | UT | Bryce Canyon | Bryce Canyon | 4/2370 | 4/30/14 | RNAV (GPS) RWY 3, Orig-B.
26-Jun-14 | CA | San Diego | San Diego Intl | 4/2379 | 4/30/14 | LOC RWY 27, Amdt 5A.
26-Jun-14 | CA | San Diego | San Diego Intl | 4/2381 | 4/30/14 | RNAV (GPS) RWY 27, Amdt 3A.
26-Jun-14 | IL | Salem | Salem-Leckrone | 4/2383 | 4/29/14 | RNAV (GPS) RWY 18, Amdt 1.
26-Jun-14 | WY | Laramie | Laramie Rgnl | 4/2433 | 4/30/14 | RNAV (GPS) RWY 3, Orig.
26-Jun-14 | WY | Laramie | Laramie Rgnl | 4/2434 | 4/30/14 | RNAV (GPS) RWY 21, Orig.
26-Jun-14 | OH | Toledo | Toledo Executive Airport | 4/2435 | 4/30/14 | RNAV (GPS) RWY 32, Orig.
26-Jun-14 | OH | Toledo | Toledo Executive Airport | 4/2436 | 4/30/14 | RNAV (GPS) RWY 4, Orig.
26-Jun-14 | CO | Lamar | Lamar Muni | 4/2437 | 4/30/14 | RNAV (GPS) RWY 8, Amdt 1.
26-Jun-14 | FL | Lakeland | Lakeland Linder Rgnl | 4/2443 | 4/29/14 | VOR RWY 27, Amdt 7D.
26-Jun-14 | FL | Lakeland | Lakeland Linder Rgnl | 4/2444 | 4/29/14 | RNAV (GPS) RWY 9, Amdt 2A.
26-Jun-14 | FL | Lakeland | Lakeland Linder Rgnl | 4/2449 | 4/29/14 | ILS OR LOC/DME RWY 9, Orig.
26-Jun-14 | FL | Lakeland | Lakeland Linder Rgnl | 4/2450 | 4/29/14 | RNAV (GPS) RWY 27, Amdt 2.
26-Jun-14 | FL | Lakeland | Lakeland Linder Rgnl | 4/2451 | 4/29/14 | RNAV (GPS) RWY 23, Orig-A.
26-Jun-14 | FL | Lakeland | Lakeland Linder Rgnl | 4/2454 | 4/29/14 | VOR RWY 9, Amdt 4B.
26-Jun-14 | KS | Larned | Larned-Pawnee County | 4/2459 | 4/29/14 | RNAV (GPS) RWY 35, Orig.
26-Jun-14 | AL | Tuskegee | Moton Field Muni | 4/2494 | 4/29/14 | RNAV (GPS) RWY 13, Amdt 2.
26-Jun-14 | AL | Tuskegee | Moton Field Muni | 4/2496 | 4/29/14 | RNAV (GPS) RWY 31, Amdt 2.
26-Jun-14 | MT | Livingston | Mission Field | 4/2503 | 4/30/14 | RNAV (GPS) RWY 22, Orig.
26-Jun-14 | OR | North Bend | Southwest Oregon Rgnl | 4/2542 | 4/30/14 | VOR/DME RWY 4, Amdt 10.
26-Jun-14 | OR | North Bend | Southwest Oregon Rgnl | 4/2543 | 4/30/14 | RNAV (GPS) Y RWY 4, Orig-A.
26-Jun-14 | OR | North Bend | Southwest Oregon Rgnl | 4/2544 | 4/30/14 | ILS OR LOC RWY 4, Amdt 7B.
26-Jun-14 | WI | Mosinee | Central Wisconsin | 4/2646 | 4/29/14 | RNAV (GPS) RWY 17, Amdt 1.
26-Jun-14 | KS | Wichita | Wichita Mid-Continent | 4/2708 | 4/29/14 | RNAV (GPS) RWY 1R, Amdt 1A.
26-Jun-14 | KS | Wichita | Wichita Mid-Continent | 4/2709 | 4/29/14 | VOR RWY 14, Amdt 1D.
26-Jun-14 | OR | Redmond | Roberts Field | 4/2715 | 4/30/14 | RNAV (RNP) Z RWY 4, Orig.
26-Jun-14 | OR | Redmond | Roberts Field | 4/2716 | 4/30/14 | ILS OR LOC/DME RWY 22, Amdt 3.
26-Jun-14 | OR | Redmond | Roberts Field | 4/2717 | 4/30/14 | RNAV (RNP) Z RWY 22, Orig.
26-Jun-14 | KS | Goodland | Renner Fld/Goodland Muni/ | 4/2923 | 4/29/14 | RNAV (GPS) RWY 12, Amdt 1.
26-Jun-14 | KS | Goodland | Renner Fld/Goodland Muni/ | 4/2924 | 4/29/14 | RNAV (GPS) RWY 23, Amdt 1.
26-Jun-14 | KS | Herington | Herington Rgnl | 4/2926 | 4/29/14 | RNAV (GPS) RWY 35, Amdt 1.
26-Jun-14 | KS | Herington | Herington Rgnl | 4/2927 | 4/29/14 | RNAV (GPS) RWY 17, Amdt 1.
26-Jun-14 | KS | Hutchinson | Hutchinson Muni | 4/2933 | 4/29/14 | RNAV (GPS) RWY 31, Amdt 1A.
26-Jun-14 | KS | Hutchinson | Hutchinson Muni | 4/2934 | 4/29/14 | RNAV (GPS) RWY 4, Orig.
26-Jun-14 | KS | Hutchinson | Hutchinson Muni | 4/2939 | 4/29/14 | VOR RWY 4, Amdt 19B.
26-Jun-14 | LA | Shreveport | Shreveport Rgnl | 4/3358 | 4/29/14 | LOC RWY 6, Amdt 2.
26-Jun-14 | TX | Sherman | Sherman Muni | 4/3361 | 4/29/14 | RNAV (GPS) RWY 16, Orig.
26-Jun-14 | LA | Shreveport | Shreveport Rgnl | 4/3362 | 4/29/14 | RNAV (GPS) RWY 6, Amdt 2.
26-Jun-14 | IA | Sheldon | Sheldon Muni | 4/3371 | 4/29/14 | RNAV (GPS) RWY 15, Amdt 1.
26-Jun-14 | PA | Allentown | Allentown Queen City Muni | 4/3524 | 4/30/14 | RNAV (GPS) RWY 7, Amdt 1B.
26-Jun-14 | KS | Herington | Herington Rgnl | 4/3573 | 4/29/14 | NDB RWY 35, Amdt 2.
26-Jun-14 | KS | Herington | Herington Rgnl | 4/3574 | 4/29/14 | NDB RWY 17, Amdt 2.
26-Jun-14 | MI | Mackinac Island | Mackinac Island | 4/3620 | 4/29/14 | RNAV (GPS) RWY 8, Amdt 1.
26-Jun-14 | MI | Mackinac Island | Mackinac Island | 4/3621 | 4/29/14 | RNAV (GPS) RWY 26, Amdt 1.
26-Jun-14 | MI | Benton Harbor | Southwest Michigan Rgnl | 4/3625 | 4/30/14 | VOR RWY 10, Amdt 10A.
26-Jun-14 | MI | Benton Harbor | Southwest Michigan Rgnl | 4/3626 | 4/30/14 | VOR RWY 28, Amdt 19A.
26-Jun-14 | MI | Benton Harbor | Southwest Michigan Rgnl | 4/3627 | 4/30/14 | ILS OR LOC RWY 28, Amdt 8.
26-Jun-14 | MI | Benton Harbor | Southwest Michigan Rgnl | 4/3628 | 4/30/14 | RNAV (GPS) RWY 28, Amdt 2.
26-Jun-14 | MI | Benton Harbor | Southwest Michigan Rgnl | 4/3629 | 4/30/14 | NDB RWY 28, Amdt 10B.
26-Jun-14 | MI | Benton Harbor | Southwest Michigan Rgnl | 4/3630 | 4/30/14 | RNAV (GPS) RWY 10, Amdt 1A.
26-Jun-14 | MI | Ann Arbor | Ann Arbor Muni | 4/3739 | 4/29/14 | RNAV (GPS) RWY 6, Amdt 2.
26-Jun-14 | MI | Ann Arbor | Ann Arbor Muni | 4/3744 | 4/29/14 | VOR RWY 6, Amdt 13C.
26-Jun-14 | MI | East Tawas | Iosco County | 4/3745 | 4/30/14 | RNAV (GPS) RWY 8, Orig.
26-Jun-14 | MI | Hancock | Houghton County Memorial | 4/3749 | 4/29/14 | RNAV (GPS) RWY 25, Amdt 1.
26-Jun-14 | MI | Battle Creek | W K Kellogg | 4/3763 | 4/29/14 | RNAV (GPS) RWY 5L, Amdt 1.
26-Jun-14 | AR | Springdale | Springdale Muni | 4/4391 | 4/29/14 | VOR/DME RWY 36, Amdt 9C.
26-Jun-14 | AR | Springdale | Springdale Muni | 4/4392 | 4/29/14 | RNAV (GPS) RWY 18, Amdt 1C.
26-Jun-14 | AR | Springdale | Springdale Muni | 4/4393 | 4/29/14 | VOR RWY 18, Amdt 15C.
26-Jun-14 | AR | Springdale | Springdale Muni | 4/4396 | 4/29/14 | ILS OR LOC RWY 18, Amdt 8C.
26-Jun-14 | AR | Springdale | Springdale Muni | 4/4397 | 4/29/14 | RNAV (GPS) RWY 36, Amdt 1C.
26-Jun-14 | MI | Troy | Oakland/Troy | 4/4403 | 4/29/14 | RNAV (GPS) RWY 9, Amdt 2.
26-Jun-14 | NJ | Somerville | Somerset | 4/4569 | 4/30/14 | VOR RWY 8, Amdt 12.
26-Jun-14 | NJ | Somerville | Somerset | 4/4570 | 4/30/14 | RNAV (GPS) RWY 30, Amdt 1.
26-Jun-14 | MN | Hibbing | Range Rgnl | 4/4578 | 4/29/14 | VOR RWY 13, Amdt 13.
26-Jun-14 | MN | Hibbing | Range Rgnl | 4/4579 | 4/29/14 | ILS OR LOC/DME RWY 13, Amdt 1.
26-Jun-14 | MN | Hibbing | Range Rgnl | 4/4600 | 4/29/14 | RNAV (GPS) RWY 13, Amdt 1.
26-Jun-14 | OH | Youngstown/Warren | Youngstown-Warren Rgnl | 4/4631 | 4/29/14 | RNAV (GPS) RWY 32, Orig-A.
26-Jun-14 | OH | Youngstown/Warren | Youngstown-Warren Rgnl | 4/4639 | 4/29/14 | ILS OR LOC RWY 32, Amdt 27.
26-Jun-14 | OH | Youngstown/Warren | Youngstown-Warren Rgnl | 4/4642 | 4/29/14 | NDB RWY 32, Amdt 20.
26-Jun-14 | IL | Rochelle | Rochelle Muni Airport-Koritz Field | 4/5049 | 4/29/14 | RNAV (GPS) RWY 25, Amdt 1.
26-Jun-14 | WI | Superior | Richard I Bong | 4/5050 | 4/29/14 | RNAV (GPS) RWY 4, Orig.
26-Jun-14 | RI | Providence | Theodore Francis Green State | 4/5145 | 4/30/14 | RNAV (GPS) RWY 34, Amdt 1.
26-Jun-14 | RI | Providence | Theodore Francis Green State | 4/5146 | 4/30/14 | ILS OR LOC RWY 23, Amdt 6.
26-Jun-14 | RI | Providence | Theodore Francis Green State | 4/5147 | 4/30/14 | RNAV (RNP) Z RWY 23, Orig.
26-Jun-14 | RI | Providence | Theodore Francis Green State | 4/5149 | 4/30/14 | VOR RWY 5, Amdt 14.
26-Jun-14 | RI | Providence | Theodore Francis Green State | 4/5150 | 4/30/14 | ILS OR LOC/DME RWY 34, Amdt 11.
26-Jun-14 | RI | Providence | Theodore Francis Green State | 4/5151 | 4/30/14 | RNAV (GPS) Y RWY 23, Amdt 1A.
26-Jun-14 | LA | Minden | Minden | 4/5213 | 4/29/14 | RNAV (GPS) RWY 1, Orig.
26-Jun-14 | LA | Minden | Minden | 4/5214 | 4/29/14 | RNAV (GPS) RWY 19, Orig.
26-Jun-14 | WY | Greybull | South Big Horn County | 4/5233 | 4/30/14 | RNAV (GPS) RWY 34, Amdt 1.
26-Jun-14 | WY | Greybull | South Big Horn County | 4/5234 | 4/30/14 | NDB RWY 34, Amdt 3.
26-Jun-14 | WY | Greybull | South Big Horn County | 4/5236 | 4/30/14 | RNAV (GPS) RWY 7, Orig.
26-Jun-14 | MT | Lewistown | Lewistown Muni | 4/5428 | 4/30/14 | RNAV (GPS) RWY 8, Amdt 1A.
26-Jun-14 | MT | Lewistown | Lewistown Muni | 4/5429 | 4/30/14 | RNAV (GPS) RWY 26, Orig.
26-Jun-14 | GA | Augusta | Augusta Rgnl At Bush Field | 4/5451 | 4/29/14 | RNAV (GPS) Y RWY 8, Amdt 1.
26-Jun-14 | GA | Augusta | Augusta Rgnl At Bush Field | 4/5452 | 4/29/14 | ILS OR LOC RWY 17, Amdt 9.
26-Jun-14 | GA | Augusta | Augusta Rgnl At Bush Field | 4/5453 | 4/29/14 | ILS OR LOC RWY 35, Amdt 28.
26-Jun-14 | GA | Augusta | Augusta Rgnl At Bush Field | 4/5454 | 4/29/14 | RNAV (GPS) RWY 17, Amdt 2.
26-Jun-14 | GA | Augusta | Augusta Rgnl At Bush Field | 4/5459 | 4/29/14 | RNAV (GPS) RWY 26, Amdt 1.
26-Jun-14 | GA | Augusta | Augusta Rgnl At Bush Field | 4/5460 | 4/29/14 | RNAV (GPS) Z RWY 8, Orig.
26-Jun-14 | GA | Augusta | Augusta Rgnl At Bush Field | 4/5462 | 4/29/14 | VOR/DME RWY 17, Amdt 4.
26-Jun-14 | FL | Vero Beach | Vero Beach Muni | 4/5483 | 4/29/14 | RNAV (GPS) RWY 12R, Amdt 2A.
26-Jun-14 | FL | Vero Beach | Vero Beach Muni | 4/5485 | 4/29/14 | VOR RWY 12R, Amdt 14B.
26-Jun-14 | FL | Vero Beach | Vero Beach Muni | 4/5504 | 4/29/14 | VOR/DME RWY 30L, Amdt 4A.
26-Jun-14 | FL | Vero Beach | Vero Beach Muni | 4/5505 | 4/29/14 | RNAV (GPS) RWY 4, Amdt 1A.
26-Jun-14 | FL | Vero Beach | Vero Beach Muni | 4/5516 | 4/29/14 | RNAV (GPS) RWY 22, Amdt 1A.
26-Jun-14 | FL | Vero Beach | Vero Beach Muni | 4/5517 | 4/29/14 | RNAV (GPS) RWY 30L, Amdt 2A.
26-Jun-14 | TX | Beaumont/Port Arthur | Jack Brooks Rgnl | 4/6406 | 4/29/14 | VOR RWY 12, Amdt 9B.
26-Jun-14 | TX | Beaumont/Port Arthur | Jack Brooks Rgnl | 4/6507 | 4/29/14 | ILS OR LOC RWY 12, Amdt 23A.
26-Jun-14 | GA | Augusta | Augusta Rgnl At Bush Field | 4/8061 | 4/29/14 | RNAV (GPS) RWY 35, Amdt 2.
26-Jun-14 | FL | Tampa | Tampa Intl | 4/9364 | 4/29/14 | ILS OR LOC RWY 19L, ILS RWY 19L (SA CAT I), ILS RWY 19L (CAT II), Amdt 40B.
26-Jun-14 | FL | Tampa | Tampa Intl | 4/9365 | 4/29/14 | RNAV (GPS) RWY 1L, Amdt 2A.
26-Jun-14 | FL | Tampa | Tampa Intl | 4/9366 | 4/29/14 | RNAV (RNP) Y RWY 19L, Amdt 1C.
26-Jun-14 | FL | Tampa | Tampa Intl | 4/9367 | 4/29/14 | ILS OR LOC RWY 19R, Amdt 5A.
26-Jun-14 | FL | Tampa | Tampa Intl | 4/9368 | 4/29/14 | RNAV (GPS) RWY 28, Amdt 1.
26-Jun-14 | FL | Tampa | Tampa Intl | 4/9369 | 4/29/14 | RNAV (GPS) RWY 19R, Amdt 2A.
26-Jun-14 | FL | Tampa | Tampa Intl | 4/9370 | 4/29/14 | ILS OR LOC RWY 1L, ILS RWY 1L (SA CAT I), ILS RWY 1L (CAT II-III), Amdt 16C.
26-Jun-14 | FL | Tampa | Tampa Intl | 4/9371 | 4/29/14 | RNAV (GPS) Z RWY 19L, Amdt 2B.

[FR Doc. 2014-13399 Filed 6-10-14; 8:45 am]

BILLING CODE 4910-13-P